DEPARTMENT OF ENERGY

Federal Energy Regulatory Commission

[Docket Nos. RM03-8-000, RM03-8-001, RM03-8-002]

Quarterly Financial Reporting and Revisions to the Annual Reports; Notice of Filing

March 4, 2005.

On March 3, 2005, the Edison Electric Institute (EEI) filed a motion requesting that the Commission: (1) Promptly grant an extension of time, from April 25, 2005, until April 18, 2007, for companies to adopt the revised Form 1 certification required by Commission Orders No. 646 and 646-A, which were issued on February 11, 2004, and June 2, 2004, in the above-referenced dockets; and (2) while the requested extension is in effect, adopt some modest changes in the certification to bring it in line with the certification adopted by the Securities and Exchange Commission (SEC) in implementing sections 302 and 404 of the Sarbanes-Oxley Act of 2002.

Comments on the EEI's motion must be filed on or before March 11, 2005.

Magalie R. Salas,
Secretary.

[FR Doc. E5-1032 Filed 3-11-05; 8:45 am]

BILLING CODE 6717-01-P